COMMISSION ON CIVIL RIGHTS

Agenda and Notice of Public Meeting of the New Jersey Advisory Committee

AGENCY: Commission on Civil Rights.

ACTION: Announcement of public meeting.

SUMMARY: Notice is hereby given, pursuant to the provisions of the rules and regulations of the U.S. Commission on Civil Rights (Commission), and the Federal Advisory Committee Act (FACA), that the New Jersey State Advisory Committee to the Commission will hold a virtual panel briefing on Wednesday, February 10, 2021 at 1:00 p.m. (ET) for the purpose of discussing the impact of criminal records on access to employment-occupational licenses in New Jersey.

DATES: February 10, 2021, Wednesday at 1:00 p.m. (ET):

• To join by web conference: https://bit.ly/3pxSGfw

• To join by phone only, dial 1-800-360-9505; Access code: 199 410 0899

FOR FURTHER INFORMATION CONTACT: Ivy Davis at ero@usccr.gov or by phone at (202) 530-8468.

SUPPLEMENTARY INFORMATION: This meeting is available to the public through the Webex link above. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web link provided for this meeting.

Members of the public are entitled to make comments during the open period at the end of the meeting. Members of the public may also submit written comments; the comments must be emailed to the Eastern Regional Office within 30 days following the meeting. Written comments may be emailed to: Atten: Ivy Davis at ero@usccr.gov. Persons who desire additional information may contact the Regional Programs Unit at (202) 530-8468. Records and documents discussed during the meeting will be available for public viewing as they become available at www.facadatabase.gov. Persons interested in the work of this advisory committee are advised to go to the Commission's website, www.usccr.gov, or to contact the Regional Programs Unit at the above phone number or email address.

Agenda

Wednesday, February 10, 2021 at 1:00 p.m. (ET)

I. Roll Call

II. Welcome

III. Panel Presentation

IV. Public Comment

V. Closing Remarks

VI. Adjourn

Dated: February 1, 2021.
David Mussatt,
Supervisory Chief, Regional Programs Unit.

[FR Doc. 2021-02349 Filed 2-3-21; 8:45 am]

BILLING CODE P